DEPARTMENT OF TRANSPORTATION

Federal Aviation Administration

Notice of a Record of Decision

AGENCY: Federal Aviation Administration (FAA).

ACTION: Notice of availability of Record of Decision (ROD).

SUMMARY: The FAA is issuing this notice to advise the public that it has issued a ROD for the Final Environmental Impact Statement (Final EIS) that evaluated the effects of proposed improvements to runway safety areas at the Kodiak Airport. This ROD constitutes the final decision of the FAA regarding the proposed action and summarizes the Final EIS analyses and selected mitigation measures.

ADDRESSES: Copies of the ROD may be viewed online or during regular business hours at the following locations:

1. Online at www.kodiakairporteis.com.

2. Holmes Johnson Memorial Library, 319 Lower Mill Bay Road, Kodiak, AK 99615. (907) 486-8680.

3. Federal Aviation Administration, Airports Division, 222 W. 7th Avenue, Anchorage, AK 99513-7504. (907) 271-5453.

FOR FURTHER INFORMATION CONTACT: Leslie Grey, Environmental Protection Specialist, FAA, Alaskan Region, Airports Division, address 222 W. 7th Avenue Box #14, Anchorage, AK 99513. Ms. Grey may be contacted during business hours at (907) 271-5453 (telephone) and (907) 271-2851 (fax), or by email at Leslie.Grey@faa.gov.

SUPPLEMENTARY INFORMATION: In the ROD, the FAA selected the following alternatives for implementation:

• Runway 07/25 Alternative 2 which involves the placement of fill off Runway end 25 and installation of an EMAS bed on the newly constructed landmass.

• Runway 18/36 Alternative 7 which involves a landmass extension to the south beyond Runway end 36, shifting the runway to the south, and placing an Engineered Material Arresting System (EMAS) bed to the north beyond Runway end 18.

Authority: 42 U.S.C. 4321 et seq., 40 CFR Parts 1500-1508.

Issued in Anchorage, Alaska, on September 18, 2013.
Byron K. Huffman,
Manager, Airports Division, Alaskan Region.

[FR Doc. 2013-23518 Filed 9-26-13; 8:45 am]

BILLING CODE 4910-13-P